DEPARTMENT OF TRANSPORTATION

Federal Aviation Administration

Noise Exposure Map Notice: San Diego County Regional Airport Authority for San Diego International Airport

AGENCY: Federal Aviation Administration, DOT.

ACTION: Notice of acceptance of a noise exposure map and review of a noise compatibility program.

SUMMARY: The Federal Aviation Administration (FAA) announces its determination that the noise exposure maps submitted by the San Diego County Regional Airport Authority for San Diego International Airport complies with applicable statutory and regulatory requirements, refer to the supplementary information for details. Further, in conjunction with the noise exposure maps, FAA is reviewing the proposed noise compatibility program for the San Diego International Airport, which the FAA will approve or disapprove on or before February 28, 2023. This notice also announces the availability of this noise compatibility program for public review and comment.

DATES: The effective date of the FAA's determination on the noise exposure maps and of the start of its review of the associated noise compatibility program is September 1, 2022. The public comment period ends October 31, 2022.

FOR FURTHER INFORMATION CONTACT: David B. Kessler, AICP, Regional Environmental Protection Specialist, 777 South Aviation Boulevard, El Segundo, California 90045. Telephone 424-405-7315. Comments on the proposed noise compatibility program should also be submitted to the above office.

SUPPLEMENTARY INFORMATION: This notice announces that the FAA finds that the noise exposure maps (NEMs) submitted by the San Diego County Regional Airport Authority for San Diego International Airport complies with the applicable requirements of title 14, Code of Federal Regulations (CFR) part 150 (14 CFR part 150), effective September 1, 2022. Further, the FAA is reviewing a proposed noise compatibility program (NCP) for San Diego International Airport that will be approved or disapproved on or before February 28, 2023. This notice also announces the availability of this program for public review and comment.

Per United States Code (U.S.C.) section 47503 (49 U.S.C. 47503) an airport operator may submit to the FAA noise exposure maps which meet applicable regulations and which depict non-compatible land uses as of the date of submission of such maps, a description of projected aircraft operations, and the ways in which such operations will affect such maps. 49 U.S.C. 47503 requires such maps to be developed in consultation with interested and affected parties in the local community, government agencies, and persons using the airport.

An airport operator who submitted noise exposure maps that the FAA determined complies with the requirements of 14 CFR part 150, may submit a noise compatibility program, which sets forth the measures the operator has taken or proposes to take to reduce existing non-compatible uses and prevent the introduction of additional non-compatible uses, for FAA approval.

San Diego County Regional Airport Authority submitted to the FAA on May 6, 2022, noise exposure maps, descriptions and other documentation that were produced during the San Diego International Airport 14 CFR part 150 Update Final Report, dated May 2022. It was requested that the FAA review this material as the noise exposure maps, as described in 49 U.S.C. 47503, and that the noise mitigation measures, to be implemented jointly by the airport and surrounding communities, be approved as a noise compatibility program under 49 U.S.C. 47503.

The FAA has completed its review of the noise exposure maps and related descriptions submitted by the San Diego County Regional Airport Authority. The specific documentation determined to constitute the noise exposure maps includes: “Figure NEM-1 Existing 2018 Noise Exposure Map (NEM);” “Figure NEM-2 Future Noise Exposure Map (NEM) 2026.” The Noise Exposure Maps contain current and forecast information including the depiction of the airport and its boundaries, the runway configuration, land uses such as residential, open space, commercial/office, community facilities, libraries, churches, infrastructure, and those areas within the Community Noise Equivalent Level (CNEL) 65, 70, and 75 decibel (dB) noise contours. Estimates for the number of people within these contours for the year 2018 are shown on Figure NEM-1 Existing 2018 Noise Exposure Map. Figures 3.9 and 3.10 show the location of noise monitoring sites. Flight tracks for the existing and the forecast Noise Exposure Maps are found in Figures 4.1, 4.2, and 4.3. The type and frequency of aircraft operations (including nighttime operations) are found in Tables 4.3 and 4.4. The FAA determined that these noise exposure maps for San Diego International Airport are in compliance with applicable statuary and regulatory requirements. This determination is effective on September 1, 2022. The FAA's determination on an airport operator's noise exposure maps is limited to a finding that the maps were developed in accordance with the procedures contained in appendix A of 14 CFR part 150. Such determination does not constitute approval of the applicant's data, information or plans, or constitute a commitment to approve a noise compatibility program or to fund the implementation of that program.

If questions arise concerning the precise relationship of specific properties to noise exposure contours depicted on a noise exposure map submitted under 49 U.S.C. 47503, it should be noted that the FAA is not involved in any way in determining the relative locations of specific properties with regard to the depicted noise contours, or in interpreting the noise exposure maps to resolve questions concerning, for example, which properties should be covered by the provisions of 49 U.S.C. 47503. These functions are inseparable from the ultimate land use control and planning responsibilities of local government. These local responsibilities are not changed in any way under 14 CFR part 150 or through the FAA's review of noise exposure maps.

Therefore, the responsibility for the detailed overlaying of noise exposure contours onto the map depicting properties on the surface rests exclusively with the airport operator that submitted those maps, or with those public agencies and planning agencies with which consultation is required under 49 U.S.C. 47503. The FAA has relied on the certification by the airport operator, 14 CFR 150.21, that the statutorily required consultation has been accomplished.

The FAA has formally received the noise compatibility program for San Diego International Airport, also effective on September 1, 2022. Preliminary review of the submitted material indicates that it conforms to the requirements for the submittal of noise compatibility programs, but that further review will be necessary prior to approval or disapproval of the program. The formal review period, limited by law to a maximum of 180 days, will be completed on or before February 28, 2023.

The FAA's detailed evaluation will be conducted under the provisions of 14 CFR 150.33. The primary considerations in the evaluation process are whether the proposed measures may reduce the level of aviation safety, create an undue burden on interstate or foreign commerce, or be reasonably consistent with obtaining the goal of reducing existing non-compatible land uses and preventing the introduction of additional non-compatible land uses.

Interested persons are invited to comment on the proposed program with specific reference to these factors. All comments, other than those properly addressed to local land use authorities; will be considered by the FAA to the extent practicable. Copies of the noise exposure maps, the FAA's evaluation of the maps, and the proposed noise compatibility program are available for examination at the following locations:

Federal Aviation Administration, Los Angeles Airports District Office, 777 South Aviation Boulevard, Suite 150, El Segundo, California 90045.

Sjohnna Knack, Program Manager, Airport Planning & Environmental Affairs, San Diego County Regional Airport Authority, 3270 Admiral Boland Way, San Diego, California 92101

Questions may be directed to the individual named above under the heading, FOR FURTHER INFORMATION CONTACT.

Issued in El Segundo, California on September 1, 2022.
Mark A. McClardy,
Director, Airports Division, AWP-600, Western-Pacific Region.

[FR Doc. 2022-19364 Filed 9-7-22; 8:45 am]

BILLING CODE 4910-13-P